DEPARTMENT OF TRANSPORTATION

Federal Highway Administration

Notice of Final Federal Agency Actions on the Hampton Roads Crossing Study in the Cities of Hampton and Norfolk, Virginia

AGENCY: Federal Highway Administration (FHWA), Department of Transportation (DOT).

ACTION: Notice of limitation on claims for judicial review of actions by FHWA.

SUMMARY: This notice announces actions taken by the FHWA that are final. The actions relate to the proposed widening of Interstate 64 to a consistent six-lane facility between Interstates 664 and 564 and the addition of a new bridge-tunnel parallel to the existing Interstate 64 Hampton Roads Bridge Tunnel. Those actions grant licenses, permits, and approvals for the project.

DATES: By this notice, FHWA is advising the public of final agency actions subject to 23 U.S.C. 139(l)(1). A claim seeking judicial review of the Federal agency actions on the project will be barred unless the claim is filed on or before April 1, 2019. If the Federal law that authorizes judicial review of a claim provides a time period of less than 150 days for filing such claim, then that shorter time period still applies.

FOR FURTHER INFORMATION CONTACT: For FHWA: Mr. Edward Sundra, Director of Program Development, FHWA Virginia Division, 400 North 8th Street, Richmond, Virginia 23219; telephone: (804) 775-3357; email: Ed.Sundra@dot.gov. The FHWA Virginia Division's normal business hours are 8:00 a.m. to 4:30 p.m. (Eastern Time). For the Virginia Department of Transportation: Scott Smizik, 1401 East Broad Street, Richmond, Virginia 23219; email: Scott.Smizik@VDOT.Virginia.gov; telephone: (804) 371-4082. The Virginia Department of Transportation's normal business hours are 7:00 a.m. to 4:00 p.m.

SUPPLEMENTARY INFORMATION: Notice is hereby given that FHWA has taken final agency actions subject to 23 U.S.C. 139(l)(1) by issuing licenses, permits, and approvals for the following project in the State of Virginia: Hampton Roads Crossing Study in the Cities of Hampton and Norfolk. The project involves the widening of Interstate 64 to a consistent six-lane facility between Interstates 664 and 564 and the addition of a new bridge-tunnel parallel to the existing Interstate 64 Hampton Roads Bridge Tunnel. The actions taken by FHWA, and the laws under which such actions were taken, are described in the Environmental Assessment (EA) and Finding of No Significant Impact (FONSI). The EA was signed on June 7, 2018. The FONSI was signed on October 23, 2018. The EA, FONSI and other supporting documentation can be viewed on the project's website at: http://hamptonroadscrossingstudy.org/. These documents and other project records are also available by contacting FHWA or the Virginia Department of Transportation at the phone numbers and addresses listed above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.SC. 1531-1544 and Section 1536].

5. Historic and Cultural Resources: Section 106 of the National Historic Preservation Act of 1966, as amended [16 U.S.C. 470(f) et seq.].

6. Social and Economic: Farmland Protection Policy Act (FPPA) [7 U.S.C. 4201-4209].

7. Executive Orders: E.O. 11990 Protection of Wetlands; E.O. 11988 Floodplain Management; E.O. 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C 139(l)(1).

Issued on: October 24, 2018.
Edward Sundra,
Director of Program Development, Richmond, VA.

[FR Doc. 2018-23820 Filed 11-1-18; 8:45 am]

BILLING CODE 4910-RY-P